DEPARTMENT OF COMMERCE

National Oceanic and Atmospheric Administration

50 CFR Parts 300, 600 and 660

[Docket No. 021209300-3048-02; I.D. 042803E]

Fisheries off West Coast States and in the Western Pacific; Pacific Coast Groundfish Fishery; Annual Specifications and Management Measures; Trip Limit Adjustments; Pacific Halibut Fisheries; Corrections

AGENCY: National Marine Fisheries Service (NMFS), National Oceanic and Atmospheric Administration (NOAA), Commerce.

ACTION: Inseason trip limit adjustments; announcement of incidental halibut retention allowance; corrections to the 2003 specifications and management measures; request for comments.

SUMMARY: NMFS announces changes in the following trip limits for the Pacific Coast groundfish fisheries: limited entry trawl gear fisheries for the DTS complex (Dover sole, thornyheads and sablefish), flatfish (including arrowtooth flounder and Petrale sole), and yellowtail rockfish landed with flatfish; open access fisheries for yellowtail rockfish in the salmon troll fishery. NMFS also announces changes in the closed areas affecting the limited entry trawl fleet. For the trawl “B” platoon, the closed areas for the cumulative limit period beginning May 16 through June 30, 2003, will be the same for the “B” platoon as for the“A” platoon. For the remainder of the “B” platoon cumulative limit period, from July 1 through July 15, 2003, the “B” platoon will be subject to the closed areas that were in place for the “A” platoon through June 30, 2003. NMFS announces regulations for the retention of Pacific halibut landed incidentally in the limited entry longline primary sablefish fishery north of Pt. Chehalis, WA (46°53′18″ N. lat.). This document also contains notification of a voluntary closed area (also called an “area to be avoided”) off Washington for commercial fixed gear sablefish fishermen and salmon trollers. In addition, NMFS announces corrections and clarifications to the final rule for the 2003 groundfish specifications and management measures (68 FR 11182, March 7, 2003). These actions, which are authorized by the Pacific Coast Groundfish Fishery Management Plan (FMP), will allow fisheries access to more abundant groundfish stocks while protecting overfished and depleted stocks.

DATES: Effective 0001 hours local time May 1, 2003, until the 2004 annual specifications and management measures are effective, unless modified, superseded, or rescinded through a publication in the Federal Register. Comments on this rule will be accepted through May 22, 2003.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Jamie Goen or Carrie Nordeen (Northwest Region, NMFS), phone: 206-526-6140; fax: 206-526-6736; and e-mail: jamie.goen@noaa.gov or carrie.nordeen@noaa.gov.

SUPPLEMENTARY INFORMATION:

Electronic Access

This Federal Register document is available on the Government Printing Office′s Web site at: http://www.access.gpo.gov/su_docs/ca/docs/aces/aces140.html. Background information and documents are available at the NMFS Northwest Region Web site at: http://www.nwr.noaa.gov/1sustfsh/gdfsh01.htm and at the Pacific Fishery Management Council′s Web site at: http://www.pcouncil.org.

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the 2003 fishing year (January 1 - December 31, 2003) were initially published in the Federal Register as an emergency rule for January 1 - February 28, 2003 (68 FR 908, January 7, 2003) and as a proposed rule for March 1 - December 31, 2003 (68 FR 936, January 7, 2003). The emergency rule was amended at 68 FR 4719, January 30, 2003, and the final rule for March 1 - December 31, 2003 was published in the Federal Register on March 7, 2003 (68 FR 11182). The final rule was corrected on April 15, 2003 (68 FR 18166).

The Northern Pacific Halibut Act of 1982 (16 U.S.C. 773-773k) (Halibut Act) and its implementing regulations at 50 CFR part 300, subpart E, regulate fishing for Pacific Halibut in U.S. Convention waters. The Halibut Act also authorizes the Pacific Council to develop regulations governing the Pacific halibut catch in waters off of Washington, Oregon, and California that are in addition to, but not in conflict with, regulations of the International Pacific Halibut Commission (IPHC). Accordingly, the Pacific Council has developed, and NMFS has approved, a catch sharing plan (CSP) to allocate the total allowable catch (TAC) of Pacific halibut between treaty Indian and non-Indian harvesters, and among non-Indian commercial and sport fisheries in IPHC statistical Area 2A (off Washington, Oregon, and California). The CSP, as implemented at 50 CFR part 300, provides for retention of halibut landed incidentally in the limited entry, longline primary sablefish fishery north of Pt. Chehalis, WA (46°53′18″ N. lat.) in years when the Area 2A TAC is above 900,000 lb (408.2 mt). Because the Area 2A TAC is above 900,000 lb (408.2 mt) in 2003, NMFS is establishing an allowance for incidental halibut retention in the primary sablefish fishery in 2003.

The following changes to current groundfish management measures were recommended by the Pacific Council, in consultation with Pacific Coast Treaty Tribes and the States of Washington, Oregon, and California, at its April 7-11, 2003, meeting in Vancouver, WA. Pacific Coast groundfish landings will continue to be monitored throughout the year, and further adjustments will be made as necessary to allow achievement of or to avoid exceeding the 2003 OYs and allocations.

At their April meeting, the Pacific Council adopted preliminary observer-based bycatch rates to incorporate into the bycatch model used for groundfish management. The West Coast Groundfish Observer Program (Observer Program) released observer data from September 2001 through August 2002 in January 2003. The preliminary observer-based bycatch rates used in the bycatch model are only from observations of the trawl fleet. Observer coverage of the fixed gear and open access fleets is limited at this time and considered to be in the pilot project phase, therefore, bycatch rates from these sectors were deemed inadequate to incorporate into the bycatch model at this time. To estimate the preliminary observer-based bycatch rates, observed hail weights of retained catch were adjusted by state fish ticket data. Compared with the trawl logbook-based bycatch rates originally used to model the 2003 annual specifications and management measures, observer-based bycatch rates show an initial trend of higher estimated bycatch of all overfished groundfish species, except widow rockfish. For example, the canary rockfish trawl bycatch rate in the flatfish fishery shallower than 100 fm (183 m) was estimated to be roughly 0.45 percent during the months from March through June in the 2002 analysis of the 2003 fishery, while the NMFS observer rates applied to this fishery in April 2003 were roughly 1.0 percent. As fish ticket-adjusted logbook data become available, it will be used to revise the preliminary observer-based bycatch rates in the model. However, the rates are only expected to change slightly in magnitude and the trend is not expected to change between the preliminary and revised observer-based bycatch rates. The revised rates are expected to be available for the June 16-20, 2003, Council meeting in San Francisco, CA. Most changes to trip limits and area closures in this inseason action affect the trawl fleet, based on using the best available science, the new observer bycatch information.

North of 40°10′ N. Latitude

Based on the new observer program information on bycatch rates in the trawl fishery for groundfish, the Pacific Council recommended changes to the boundary lines for the trawl Rockfish Conservation Area (RCA) (the area that is closed to fishing for groundfish with trawl gear) along with trip limit changes. In particular, new estimates of canary rockfish bycatch in the trawl fishery north of 40°10′ N. lat. are higher than previously estimated. At this higher bycatch rate, the OY for canary rockfish would be reached before the end of the year. In order to slow the rate of canary rockfish interception, the trawl RCAs will eventually be shifted to better align with observed canary rockfish interception. Until new management lines can be put in place, the trawl RCA north of 40°10′ N. lat. is being extended from the shoreline to 250 fm (457 m) (see next section).

While most of the trawl trip limits will remain as previously scheduled, the trip limits for DTS complex and arrowtooth flounder are being increased to allow access to more abundant groundfish stocks in offshore areas where canary rockfish are not intercepted. However, to allow this increase, further restrictions were added to vessels fishing for DTS and/or flatfish with small footrope gear, to discourage fishers from fishing inshore of the trawl RCA (when that area is reopened later this month) where there is an increased likelihood of intercepting canary rockfish. Vessels fishing for the DTS complex or flatfish with small footrope gear at any time in any area during the entire 2-month cumulative limit period are subject to lower trip limits than vessels using large footrope gear or midwater trawl gear. Large footrope gear is permissible only in waters offshore of the trawl RCA. Thus, vessels that choose to fish against the higher limits would not be allowed to use bottom trawl gear anywhere inshore of the trawl RCA (when that area is reopened later this month). The higher limits for vessels fishing with midwater trawl gear are intended to allow retention of DTS and flatfish caught incidentally to the primary whiting fishery.

Trawl RCA Restrictions North of 40°10′ N. lat.

For May-June (until the changes described below can be implemented through a subsequent Federal Register document), the offshore boundary line of the trawl RCA north of 40°10′ N. lat. will remain the same, 250 fm (457 m), while the inshore boundary line will move from 100 fm (183 m) to the shoreline. Thus, the trawl RCA will extend from the shoreline out to 250 fm (457 m). This increased area closure is intended to protect canary rockfish, an overfished species, until new trawl RCA depth-based management lines can be implemented. Data from the observer program showed that canary rockfish tend to be intercepted in trawl gear further inshore than previously expected. In evaluating the observer data, the Pacific Council′s Groundfish Management Team (GMT) recommended that the trawl RCA boundaries be shifted to lines approximating 50 fm (91 m) for the shoreward boundary and 200 fm (366 m) for the offshore boundary for the remainder of the year. However, NMFS cannot implement these new boundary lines until boundary coordinates have been developed and reviewed by the states and enforcement. NMFS estimates that these new boundary lines will be implemented in mid-May 2003. In the meantime, trawling inshore of 250 fm (457 m) is prohibited immediately to slow the incidental catch of canary rockfish inside of 100 fm (183 m).

Limited Entry Trawl Gear Limits for DTS North of 40°10′ N. lat.

For May-December, the 2-month cumulative limits for the DTS trawl fishery occurring north of 40°10′ N. lat. will be increased or reduced from the May-June period as follows: Dover sole will be increased from 25,000 lb (11,340 kg) to 31,000 lb (14,061 kg) provided only large footrope or midwater trawl gear is used during the entire period or reduced to 12,500 lb (5,670 kg) if small footrope gear is used at any time during the entire period; shortspine thornyhead will be increased from 2,400 lb (1,089 kg) to 2,800 lb (1,270 kg) provided only large footrope or midwater trawl gear is used during the entire period or reduced to 0 lb (0 kg) if small footrope gear is used at any time during the entire period; longspine thornyhead will be increased from 9,000 lb (4,082 kg) to 14,000 lb (6,350 kg) provided only large footrope or midwater trawl gear is used during the entire period or reduced to 0 lb (0 kg) if small footrope gear is used at any time during the entire period; and sablefish will be increased from 7,000 lb (3,175 kg) to 10,000 lb (4,536 kg) provided only large footrope or midwater trawl gear is used during the entire period or reduced to 3,000 lb (1,361 kg) if small footrope gear is used at any time during the entire period.

Limited Entry Trawl Gear Limits for Flatfish North of 40°10′ N. lat.

For May-October, the 2-month cumulative limits for the flatfish fishery occurring north of 40°10′ N. lat. will either be increased or restricted from the May-June period as follows: Arrowtooth flounder will be increased from 60,000 lb (27,216 kg) to 200,000 lb (90,719 kg) provided only large footrope or midwater trawl gear is used during the entire period or reduced to 5,000 lb (2,268 kg) if small footrope gear is used at any time during the entire period; the ′all other flatfish′ category will remain at 100,000 lb (45,359 kg) provided only large footrope or midwater trawl gear is used during the entire period or reduced to 20,000 lb (9,072 kg) if small footrope gear is used at any time during the entire period; and the petrale sole sublimit of the ′all other flatfish′ category remains at 30,000 lb (13,608 kg) provided only large footrope or midwater trawl gear is used during the entire period or is further restricted from 30,000 lb (13,608 kg) to 10,000 lb (4,536 kg) if small footrope gear is used at any time during the entire period.

Limited Entry Small Footrope Trawl Gear Limits for Yellowtail Rockfish Landed with Flatfish North of 40°10′ N. lat.

Because cumulative limits for flatfish fisheries north of 40°10′ N. lat. will now include specific limits for flatfish caught with small footrope gear, the sublimit for yellowtail rockfish taken with small footrope gear by vessels targeting groundfish was increased slightly to allow retention of incidentally caught yellowtail rockfish. This slight increase in the yellowtail rockfish flatfish sublimit is intended to reduce the amount of yellowtail rockfish discarded while not encouraging targeting on the species. Thus, for May-October, the small footrope limits for yellowtail rockfish landed with flatfish north of 40°10′ N. lat. will be increased from 3,000 lb (1,361 kg) per month to 10,000 lb (4,536 kg) per 2 months.

Open Access Limits for Yellowtail Rockfish in the Salmon Troll Fishery North of 40°10′ N. lat.

In 2001, the Pacific Council′s GMT analyzed the incidental catch of yellowtail and canary rockfish in the salmon troll fishery. Management measures aimed at protecting the overfished canary rockfish stock have reduced harvest opportunities for yellowtail rockfish, which is caught in association with canary rockfish and is considered to be a more abundant stock. However, an analysis in 2001 indicated that the amount of canary rockfish taken with salmon troll gear was not highly correlated to the amount of yellowtail rockfish taken with salmon troll gear. Following these findings in 2001, the Pacific Council adopted, and NMFS implemented, the GMT′s recommendation for a yellowtail incidental catch limit specific to the salmon troll fishery. The intent of this small trip limit was to help reduce discard in the salmon troll fishery, without providing an incentive to target yellowtail rockfish or to increase the incidental catch of canary rockfish. This incidental catch allowance was in place from May through December 2002 and the Pacific Council has recommended that NMFS reinstate this same incidental yellowtail retention trip limit for the remainder of 2003.

For the May-December period, the general open access limit for yellowtail rockfish north of 40°10′ N. lat. continues to be 200 lb per month for combined minor shelf, widow and yellowtail rockfish. Participants in the salmon troll fishery in this area have a specific yellowtail rockfish limit of up to 1 lb (0.45 kg) of yellowtail rockfish per 2 lb (0.91 kg) of salmon landed, with a cumulative limit of up to 200 lb (136 kg) per month. This trip limit applies to vessels fishing for salmon both within and outside the RCA. This limit is within the 200 lb (136 kg) per month combined limit for minor shelf rockfish, widow rockfish and yellowtail rockfish, and not in addition to that limit. All groundfish species taken in the salmon troll fishery other than yellowtail rockfish are subject to the open access limits, seasons, and RCA restrictions listed in Table 5 (North). Additionally, a new section has been added to the end of the open access table, Table 5 (North), listing the limits for the salmon troll fishery.

Retention of Incidental Halibut Catch in the Primary Sablefish Fishery North of Pt. Chehalis, WA

The Pacific halibut CSP and implementing regulations at 50 CFR 300.63(a)(3) provide for retention of halibut landed incidentally in the limited entry, longline primary sablefish fishery north of Pt. Chehalis, WA (46°53′18” N. lat.) in years when the Area 2A TAC is above 900,000 lb (408.2 mt). The 2003 Area 2A TAC is 1,310,000 lb (594.2 mt).

According to IPHC and Federal regulations, Pacific halibut may not be taken by gear other than hook-and-line gear. Only vessels registered for use with sablefish-endorsed limited entry permits may participate in the primary fixed gear sablefish fishery specified for halibut retention in the CSP. Vessels must also carry IPHC commercial halibut licenses in order to retain and land halibut. Incidental halibut retention in the primary sablefish fishery is only available to vessels operating north of Pt. Chehalis, WA (46°53′18” N. lat.). Under Pacific halibut regulations at 50 CFR 300.63, halibut taken and retained in the primary sablefish fishery may not be possessed or landed south of Pt. Chehalis, WA (46°53′18” N. lat.).

Similar to 2002, halibut caught incidentally in the primary sablefish fishery may be retained by appropriately licensed longline vessels. In 2003, the amount of incidental halibut retained in the primary sablefish fishery is capped at 70,000 lb (31.8 mt), to ensure that fishery is maintained as an incidental and not directed fishery. Beginning May 1, 2003, and continuing until the halibut quota (70,000 lbs or 31.8 mt) is taken: longliners participating in the primary sablefish fishery north of Pt. Chehalis, WA (46°53′18” N. lat.) with appropriate IPHC licenses may retain incidental halibut landings up to 150 lbs (68 kg) (dressed weight) of halibut for every 1,000 lbs (454 kg) (dressed weight) of sablefish landed and up to two additional halibut in excess of the 150 lb (68 kg) per 1,000 lb (454 kg) ratio per landing. Halibut may not be on board a vessel that has any gear other than longline gear on board (e.g., pot or trawl gear).

Voluntary “C-shaped” Closure off Washington for the Sablefish and Salmon Troll Fisheries

In 2003, the Washington Department of Fish and Wildlife developed and NMFS implemented a “C-shaped” Yelloweye Rockfish Conservation Area (YRCA) to protect yelloweye rockfish, an overfished species (see 50 CFR 660.304 (d)). An area off Washington, which is either closed or requested as an area to be avoided, has been adjusted each year since 2000 in an effort to protect yelloweye rockfish. For 2003, the “C-shaped” YRCA is a mandatory closed area for recreational groundfish and Pacific halibut fishing. To further protect yelloweye rockfish, the Pacific Council has recommended that the “C-shaped” YRCA in the North Coast subarea (Washington Marine Area 3) also be designated as an area to be avoided (a voluntary closure) by commercial fixed gear (longline) sablefish fishermen and salmon trollers to protect yelloweye rockfish. Much of the YRCA is already closed to commercial groundfish hook-and-line access, including the fixed gear sablefish fishery, by the non-trawl RCA.

South Of 40°10′ N. Latitude

Based on the new observer program information on bycatch rates in the trawl fishery for groundfish, the Pacific Council recommended changes to the boundary lines for the trawl RCA along with trip limit changes. In particular, new estimates of bocaccio rockfish bycatch in the trawl fishery south of 40°10′ N. lat. are higher than previously estimated. At this higher bycatch rate, the OY for bocaccio rockfish would be reached before the end of the year. In order to slow the rate of bocaccio rockfish interception and align the RCA with the area where bocaccio are predominately intercepted, the offshore trawl RCA boundary will be shifted (see next section).

While most of the trawl trip limits will remain as previously scheduled, the trip limits for DTS complex and petrale sole will be increased. The trip limit for the DTS complex will be increased to allow access to more abundant groundfish stocks in times and areas where bocaccio rockfish are less likely to be intercepted. The petrale sole sublimit with flatfish will be increased to allow retention of petrale sole caught in flatfish trawls that is currently being discarded. For the DTS complex, periods 3 (May-June), 5 (September-October) and 6 (November-December) will all be increased and period 4 (July-August) will increase above the revised limits for these other periods. Period 4 (July-August) limits are increased because the trawl RCA is shifted during period 4 to between 200 fm (366 m) and the shoreline, further reducing the likelihood of intercepting bocaccio. These higher period 4 limits follow a management strategy of using less restrictive limits when conservation areas are more restrictive or more conservative. The sublimit for petrale sole in the flatfish trip limit will be increased for May-October while the overall flatfish limit will remain as previously scheduled. The previously scheduled 10,000 lb (4,536 kg) per 2 month sublimit for petrale sole was not allowing vessels to retain all of the petrale sole taken in flatfish trawls, resulting in petrale sole discard. By increasing the petrale sublimit while the overall flatfish limit remains the same, more petrale sole may be retained per fishing trip, resulting in less petrale sole discard and earlier attainment of the overall flatfish limit. By allowing earlier attainment of flatfish limits, total trawl hours will be reduced, thereby also lowering the likelihood of intercepting bocaccio rockfish. Incidental catch of bocaccio rockfish is expected to remain neutral or decrease slightly as a result of the increased sublimit for petrale sole. In addition, language was added to period 6 (November-December) to allow the trawl RCA to be modified to incorporate petrale sole fishing grounds. These petrale sole areas have not yet been developed, but will be announced in the Federal Register once they are available.

Trawl RCA Restrictions South of 40°10′ N. lat.

For May-June, the trawl RCA will remain as previously scheduled for the May-June cumulative limit period until coordinates for a new 200 fm (366 m) boundary line are announced in a future Federal Register. The Pacific Council′s GMT recommended moving the trawl RCA in order to better match the depths where bocaccio are found. However, NMFS cannot implement a new 200 fm (366 m) boundary line until coordinates have been developed and reviewed by the State of California and enforcement. NMFS estimates that this new trawl RCA boundary will be implemented in mid-May 2003.

In addition, measures to slow the incidental catch of bocaccio rockfish inshore of the trawl RCA are being implemented by prohibiting trawling inshore of 200 fm (366 m) during period 4 (July-August). Currently, the offshore line is at 250 fm (457 m) between 40°10′ N. lat. and 38° N. lat. and at 150 fm (274 m) from 38° N. lat. to the US/Mexico border. For May-June and September-December, the inshore boundary line in the trawl RCA south of 40°10′ N. lat. will remain the same (60 fm (110 m) between 40°10′ N. lat. and 34°27′ N. lat., 100 fm (183 m) from 34°27′ N. lat. to the US/Mexico border), while the offshore boundary line will move to 200 fm (366 m) as soon as announced in a future Federal Register. In addition, language was added to period 6 (November-December) to allow the trawl RCA to be modified to incorporate petrale sole fishing grounds. These petrale sole areas have not yet been developed, but will be announced in the Federal Register once they are available.

Limited Entry Trawl Gear Limits for DTS South of 40°10′ N. lat.

For May-December, the 2-month cumulative limits for the DTS trawl fishery occurring south of 40°10′ N. lat. will be increased from the May-June period as follows: Dover sole will be increased from 25,000 lb (11,340 kg) to 31,000 lb (14,061 kg) for May-June and September-December and 35,000 lb (15,876 kg) for July-August; shortspine thornyhead will be increased from 2,400 lb (1,089 kg) to 2,800 lb (1,270 kg) for May-June and September-December and 3,100 lb (1,406 kg) for July-August; longspine thornyhead will be increased from 9,000 lb (4,082 kg) to 14,000 lb (6,350 kg) for May-June and September-December and 16,000 lb (7,257 kg) for July-August; and sablefish will be increased from 7,000 lb (3,175 kg) to 10,000 lb (4,536 kg) for May-June and September-December and 12,000 lb (5,443 kg) for July-August.

Limited Entry Trawl Gear Sublimits for Petrale sole South of 40°10′ N. lat.

For May-October, the 2-month cumulative sublimit for petrale sole landed with the ′all other flatfish′ category south of 40°10′ N. lat. will be increased from 10,000 lb (4,536 kg) to 20,000 lb (9,072 kg).

Corrections

There are errors in the final rule (68 FR 11182, March 7, 2003) that need correcting and paragraphs that need clarification, including: a correction to the bag limits for greenling in California′s recreational fishery north of 40°10′ N. latitude; a correction to the limited entry fixed gear and open access Pt. Fermin/Newport South Jetty area opening during July through August to specify which species are subject to this opening; a clarification of who is subject to restrictions for the nontrawl gear RCA; a clarification on groundfish retention in the open access pink shrimp and prawn trawl fisheries; and a clarification on limited entry trawl trip limit tables for whiting and midwater trawl gear.

Federal recreational regulations should mirror state regulations, except that the states may have more restrictive regulations than Federal regulations. For California′s recreational fishery north of 40°10′ N. lat. to the California/Oregon border, Federal regulations impose a 10 greenling (rock and/or kelp greenling) bag limit while State regulations in the California code of Regulations at Title 14, Section 28.29 impose a 10 kelp greenling and 10 rock greenling bag limit. This document corrects the error in Federal regulations, therefore, Federal regulations mirror California State regulations.

For the limited entry fixed gear and open access fixed gear fleets, an area between Pt. Fermin and the Newport South Jetty is scheduled to open from July through August. Federal regulations incorrectly stated that this area applies to all Federal groundfish species in the limited entry fixed gear and open access tables (Tables 4 (South) and 5 (South)). The intent of California′s California Rockfish Conservation Area proposal presented to the Pacific Council at its September 2002 meeting, as well as language in California′s Code of Regulations at Title 14, Section 27.82 (d)(2), was that this area should be open to limited entry fixed gear and open access fixed gear for all Federal groundfish species, except all rockfish, lingcod and ocean whitefish (Note: Ocean whitefish is a managed by the State of California). This area is intended to be open during July-August to allow vessels to intercept California scorpionfish that are spawning on the sandy flats. This document corrects the error by specifying which species are subject to the Pt. Fermin/Newport South Jetty opening.

There has been some confusion among fishermen and managers about which open access participants are subject to the non-trawl RCA restrictions. In general, fishing for groundfish and Pacific halibut with non-trawl gear is prohibited in the non-trawl RCA. Fishing for salmon with troll gear is allowed within the non-trawl RCA; however, no groundfish may be retained either within or outside the RCA on a trip when any fishing occurs within the RCA (except that yellowtail rockfish, subject to the limits for salmon trollers in Table 5 (North), may be retained both inside and outside the non-trawl RCA). If salmon trollers fish exclusively outside the RCA during the entire trip, then all groundfish may be retained, subject to the trip limits in the open access tables (Table 5 (North) and Table 5 (South)). This document includes clarification of who is subject to restrictions in the non-trawl RCA.

This document also clarifies regulations for the open access fishery by stating that participants in the open access pink shrimp trawl and prawn trawl fisheries may retain groundfish caught both within and outside the trawl RCA and participants in the salmon troll fisheries may retain yellowtail rockfish caught both within and outside the non-trawl RCA, subject to the trip limits and restrictions in the open access tables (Table 5 (North) and Table 5 (South)).

To clarify which gears may retain the whiting trip limit in the limited entry trawl trip limit tables (Table 3 (North) and Table 3 (South)), the reference to midwater trawl gear in the lefthand column of the tables under “whiting” was removed. Midwater trawl gear is only required for participation in the whiting primary season inside the trawl RCA. In addition, language was added to top of Table 3 (North) and Table 3 (South) stating that midwater trawl gear is permitted both shoreward and seaward of the trawl RCAs.

NMFS Actions

For the reasons stated herein, NMFS concurs with the Pacific Council′s recommendations and hereby announces the following changes, corrections and clarifications to the 2003 specifications and management measures (68 FR 11182, March 7, 2003, as amended at 68 FR 18166, April 15, 2003) to read as follows:

* * * * *

1. On page 11204, in section IV., under A. General Definitions and Provisions, paragraph (15)(c) is redesignated as paragraph (15)(d) and revised and a new paragraph (15)(c) is added to read as follows:

IV. NMFS Actions

A. General Definitions and Provisions

(15) Platooning-Limited entry trawl vessels. * * *

(c) For a vessel in the trawl “B” platoon, the RCAs for the cumulative limit period beginning May 16 through June 30, 2003, will be the same for the “A” platoon. For the remainder of the “B” platoon cumulative limit period, from July 1 through July 15, 2003, the “B” platoon will be subject to the RCAs that were in place for the “A” platoon through June 30, 2003.

(d) A vessel authorized to operate in the “B” platoon will have the same cumulative trip limits for the November 16, 2003, through December 31, 2003, period as a vessel operating in the “A” platoon has for the November 1, 2003, through December 31, 2003 period.

* * * * *

2. On page 11206, in section IV., under A. General Definitions and Provisions, paragraph (19)(d)(i) is revised to read as follows:

IV. NMFS Actions

A. General Definitions and Provisions

(19) Rockfish Conservation Areas. * * *

(d) Non-Trawl (Limited Entry Fixed Gear and Open Access Nontrawl Gears) Rockfish Conservation Area. (i) The non-trawl RCA is closed to fishing for groundfish using non-trawl gear (limited entry or open access longline and pot or trap, open access hook-and-line, jig gear, pot or trap, gillnet, set net, trammel net, spear, or any other non-trawl gear). Fishing with non-trawl gear is prohibited within the non-trawl gear RCA. It is unlawful to take and retain, possess, or land groundfish taken with non-trawl gear in the non-trawl gear RCA. Limited entry fixed gear and open access non-trawl gear vessels may transit through the non-trawl gear RCA, with or without groundfish on board. Vessels fishing for species other than groundfish with non-trawl gear (except for vessels fishing for Pacific halibut), may fish for species other than groundfish in the non-trawl RCA, but may not retain any groundfish. If a vessel fishes in an RCA, it may not participate in any fishing on that trip that is inconsistent with the restrictions that apply within the RCA. For example, if a vessel participates in the salmon troll fishery within the RCA, the vessel cannot on the same trip participate in the sablefish fishery outside of the RCA, nor may it on the same trip retain groundfish caught with salmon troll gear either within or outside the RCA. If a vessel participates in the salmon troll fishery exclusively outside the RCA, that vessel may retain groundfish, or may switch fishing strategies to target sablefish outside the RCA. Notwithstanding the above, salmon trollers may retain and land yellowtail rockfish both within and outside the RCA north of 40°10′ N. lat. subject to the limits listed for salmon trollers in Table 5 (North). [Note: Fishing in the commercial fishery for Pacific halibut is prohibited inside the non-trawl RCA north of 40°10′ N. lat. to the U.S./Canada border as stated in the 2003 Pacific halibut fishery regulations published in the Federal Register at 68 FR 10989 (March 7, 2003).]

* * * * *

3. On page 11217, in section IV., under B. Limited Entry Fishery, paragraph (1) is revised to read as follows:

IV. NMFS Actions

B. Limited Entry Fishery

(1) General. Most species taken in limited entry fisheries will be managed with cumulative trip limits (see paragraph IV.A.(1)(d),) size limits (see paragraph IV.A.(6)), seasons (see paragraph IV.A. (7)), and areas that are closed to specific gear types. The trawl fishery has gear requirements and trip limits that differ by the type of trawl gear on board (see paragraph IV.A.(14)). Cowcod retention is prohibited in all fisheries and groundfish vessels operating south of Point Conception must adhere to CCA restrictions (see paragraph IV.A.(19)). Yelloweye rockfish retention is prohibited in the limited entry fixed gear fisheries. Most of the management measures for the limited entry fishery are listed above and in the following tables: Table 3 (North), Table 3 (South), Table 4 (North), and Table 4 (South).

A header in Table 3 (North), Table 3 (South), Table 4 (North) and Table 4 (South) generally describes the Rockfish Conservation Area (i.e., closed area) for vessels participating in the limited entry fishery. The RCA boundaries are defined by latitude and longitude coordinates (See paragraph IV.A.(19), earlier) [Note: Between a line drawn due south from Point Fermin (33°42′ 30′′ N. lat.; 118°17′ 30′′ W. long.) and a line drawn due west from the Newport South Jetty (33°35′37” N. lat.; 117°52′50” W. long.,) vessels fishing for all Federal groundfish species, except all rockfish and lingcod, with hook-and-line and/or trap (or pot) gear may operate from shore to a boundary line approximating 50 fm (91 m) in the months of July and August.]

Management measures may be changed during the year by announcement in the Federal Register. However, the management regimes for several fisheries (nontrawl sablefish, Pacific whiting, and black rockfish) do not neatly fit into these tables and are addressed immediately following Table 3 (North), Table 3 (South), Table 4 (North), and Table 4 (South).

* * * * *

4. On pages 11218-11221, in section IV., under B. Limited Entry Fishery, at the end of paragraph (1), Table 3 (North), Table 3 (South) and Table 4 (South) are revised to read as follows:

IV. NMFS Actions

B. Limited Entry Fishery

(1) * * *

BILLING CODE 3510-22-S

BILLING CODE 3510-22-C

* * * * *

5. On page 11222, in section IV., under B. Limited Entry Fishery, in column 1, add paragraph (2)(b)(i)(A) to read as follows:

IV. NMFS Actions

B. Limited Entry Fishery

(2) * * *

(b) * * *

(i) * * *

(A) Incidental halibut retention north of Pt. Chehalis, WA (46°53′18” N. lat). Vessels authorized to participate in the primary sablefish fishery, licensed by the International Pacific Halibut Commission for commercial fishing in Area 2A (waters off Washington, Oregon, California), and fishing with longline gear north of Pt. Chehalis, WA (46°53′18” N. lat.) may land up to the following cumulative limits: 150 lb (68 kg) dressed weight of halibut per 1,000 lb (454 kg) dressed weight of sablefish, plus up to two additional halibut per fishing trip in excess of this ratio. “Dressed” halibut in this area means halibut landed eviscerated with their heads on. Halibut taken and retained in the primary sablefish fishery north of Pt. Chehalis may only be landed north of Pt. Chehalis and may not be possessed or landed south of Pt. Chehalis.

(B) [Reserved]

* * * * *

6. On page 11222, in section IV., under C. Trip Limits in the Open Access Fishery, paragraph (1) is revised to read as follows:

IV. NMFS Actions

C. Trip Limits in the Open Access Fishery

(1) General. Open access gear is gear used to take and retain groundfish from a vessel that does not have a valid permit for the Pacific Coast groundfish fishery with an endorsement for the gear used to harvest the groundfish. This includes longline, trap, pot, hook-and-line (fixed or mobile), setnet and trammel net (south of 38° N. lat. only), and exempted trawl gear (trawls used to target non-groundfish species: pink shrimp or prawns, and, south of Pt. Arena, CA (38°57′30” N. lat.), CA halibut or sea cucumbers). Unless otherwise specified, a vessel operating in the open access fishery is subject to, and must not exceed any trip limit, frequency limit, and/or size limit for the open access fishery. Groundfish species taken in open access fisheries will be managed with cumulative trip limits (see paragraph IV.A.(1)(d)), size limits (see paragraph IV.A.(6)), seasons (see paragraph IV.A.(7)), and closed areas. Cowcod retention is prohibited in all fisheries and groundfish vessels operating south of Point Conception must adhere to CCA restrictions (see paragraph IV.A.(19)). Retention of yelloweye rockfish and canary rockfish and, south of 40°10′ N. lat., bocaccio is prohibited in all open access fisheries. The trip limits, size limits, seasons, and other management measures for open access groundfish gear, including exempted trawl gear, are listed in Table 5 (North) and Table 5 (South). A header in Table 5 (North) and Table 5 (South) approximates the RCA (i.e., closed area) for vessels participating in the open access fishery. [Note: Between a line drawn due south from Point Fermin (33°42′30′′ N. lat.; 118°17′30′′ W. long.) and a line drawn due west from the Newport South Jetty (33°35′37′′ N. lat.; 117°52′50′′ W. long.,) vessels fishing for all Federal groundfish species, except all rockfish and lingcod, with hook-and-line and/or trap (or pot) gear may operate from shore to a boundary line approximating 50 fm (91 m) in the months of July and August.] For vessels participating in exempted trawl fisheries, the RCAs are the same as those for limited entry trawl gear, except that pink shrimp and prawn trawl are not subject to the RCA. Exempted trawl gear RCAs are detailed in the exempted trawl gear sections at the bottom of Table 5 (North) and Table 5 (South). Retention of groundfish caught by exempted trawl gear is prohibited in the designated RCAs, except that pink shrimp trawl and prawn trawl may retain groundfish caught both inside and outside the trawl RCA subject to the limits in Table 5 (North) and Table 5 (South). Retention of groundfish caught by salmon troll gear is prohibited in the designated RCAs, except that salmon trollers may retain yellowtail rockfish caught both inside and outside the non-trawl RCA subject to the limits in Table 5 (North). The trip limit at 50 CFR 660.323(a)(1) for black rockfish caught with hook-and-line gear also applies. (The black rockfish limit is repeated at paragraph IV.B.(4).)

* * * * *

7. On pages 11224-11225, in section IV., under C. Trip Limits in the Open Access Fishery, at the end of paragraph (1), Table 5 (North) and Table 5 (South) are revised to read as follows:

IV. NMFS Actions

C. Trip Limits in the Open Access Fishery

(1) * * *

BILLING CODE 3510-22-S

BILLING CODE 3510-22-C

* * * * *

8. On page 11226, in column 3, section IV., under D. Recreational Fishery, paragraph (3)(a)(i)(B) is revised to read as follows:

IV. NMFS Actions

D. Recreational Fishery * * *

(3) California. * * *

(a) North of 40°10′ N. lat. * * *

(i) \ * * *

(B) Bag limits, boat limits, hook limits. North of 40°10′ N. lat., the bag limit is 10 rockfish per day, of which no more than 2 may be bocaccio, 1 may be canary rockfish, and no more than 1 per day up to a maximum of 2 per boat may be yelloweye rockfish. The following daily bag limits also apply: no more than 10 cabezon per day and no more than 10 kelp greenling and 10 rock greenling per day. Multi-day limits are authorized by a valid permit issued by California and must not exceed the daily limit multiplied by the number of days in the fishing trip.

* * * * *

Classification

These actions are authorized by the Pacific Coast groundfish FMP, the Halibut Act, and their implementing regulations, and are based on the most recent data available. The aggregate data upon which these actions are based are available for public inspection at the Office of the Administrator, Northwest Region, NMFS, (see ADDRESSES) during business hours.

The Assistant Administrator for Fisheries (AA), NMFS, finds good cause to waive the requirement to provide prior notice and opportunity for public comment on this action pursuant to 5 U.S.C. 553(b)(B), because providing prior notice and opportunity for comment would be impracticable. It would be impracticable because the cumulative trip limit period for the Pacific Coast groundfish fishery begins May 1, 2003, and affording prior notice and opportunity for public comment would impede the agency′s function of managing fisheries to approach without exceeding the OYs for federally managed species. The trip limits adjustments in this document are increases from the status quo with simultaneous conservative increases or shifts in the closed areas, or RCAs. Increases or shifts to RCAs must be implemented in a timely manner to protect overfished groundfish species and to prevent the harvest of overfished species from exceeding the OY for 2003, while increases to trip limits are intended to allow harvest opportunity for fisheries targeting more abundant groundfish stocks with little or no impact on overfished stocks. Because the Pacific Coast groundfish fishery is managed by trip limits and area closures, most of which are based on a 2-month cumulative period (January-February, March-April, May-June, July-August, September-October, November-December), these actions should be implemented by the beginning of the next cumulative trip limit period (May 1, 2003) to prevent fishers from fishing in areas where overfished species, particularly canary rockfish and bocaccio, are likely to occur during that period before the new RCA lines go into place. Allowing fishers to continue harvesting in areas where canary and bocaccio occur after the start of the cumulative trip limit period may cause premature fishery closures or more severe trip limit reductions and area closures in the future. The increases to trip limits in this inseason action allow fishers to access groundfish allocations without exceeding the OY for those species or the OYs of overfished or depleted stocks and delaying the increase could prevent the industry from obtaining the intended benefit of increased harvest opportunity. In addition, the affected public had the opportunity to comment on these actions at the April 7-11, 2003, Pacific Council meeting. For these reasons, good cause also exists to waive the 30-day delay in effectiveness requirement of 5 U.S.C. 553 (d)(3). In addition, provisions that relieve a restriction are not subject to a 30-day delay in effectiveness under 5 U.S.C. 553(d)(i).

These actions are taken under the authority of 50 CFR 300.63(a)(3) and 660.323(b)(1), and are exempt from review under Executive Order 12866.

Authority: 16 U.S.C. 773-773k; 1801 et seq.

Dated: April 30, 2003.
Richard W. Surdi,
Acting Director, Office of Sustainable Fisheries, National Marine Fisheries Service.

[FR Doc. 03-11084 Filed 5-1-03; 10:53 am]

BILLING CODE 3510-22-S